DEPARTMENT OF HOUSING AND URBAN DEVELOPMENT

[Docket No. FR-5281-N-01]

Notice of Proposed Information Collection: Comment Request; HUD Acquisition Regulations (HUDAR)

AGENCY: Office of the Chief Information Officer, HUD.

ACTION: Notice.

SUMMARY: The proposed information collection requirement described below will be submitted to the Office of Management and Budget (OMB) for review, as required by the Paperwork Reduction Act. The Department is soliciting public comments on the subject proposal.

HUDAR is the Department's supplement to the Federal Acquisition Regulation (FAR). The information collection required of the public is solely in connection with the acquisition process.

DATES: Comments due: March 17, 2009.

ADDRESSES: Interested persons are invited to submit comments regarding this proposal. Comments should refer to the proposal by name and/or OMB Control Number (2535-0091) and should be sent to: HUD Desk Officer, Office of Management and Budget, New Executive Office Building, Washington, DC 20503; fax: 202-395-6974.

FOR FURTHER INFORMATION CONTACT: Lillian L. Deitzer, Reports Management Officer, QDAM, Department of Housing and Urban Development, 451 Seventh Street, SW., Washington, DC 20410; e-mail Lillian Deitzer at Lillian_L_Deitzer@HUD.gov or telephone (202) 402-8048. This not a toll-free number copies of available documents submitted to OMB may be obtained from Ms. Deitzer.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: HUD Acquisition Regulations (HUDAR).

OMB Control Number, if applicable: 2535-0091.

Description of the need for the information and proposed use: HUDAR is the Department's supplement to the Federal Acquisition Regulation (FAR). The information collection required of the public is solely in connection with the acquisition process.

Agency form numbers, if applicable: HUD-770.

Member of Affected Public: Individuals or Households, Business or Other for-Profit, Not-for-Profit Institutions.

Estimation of the total number of hours needed to prepare the information collection including number of respondents, frequency of response, and hours of response:

| Number of respondents | Annual responses | × | Hours per response | = | Burden hours
Reporting Burden | 3,200 | 3.5 |  | 3.5 |  | 39,196

Total Estimated Burden Hours: 39,196.

Status of the proposed information collection: Extension of a currently approved collection.

Authority: Section 3506 of the Paperwork Reduction Act of 1995, 44 U.S.C. Chapter 35, as amended.

Dated: January 9, 2009.
Lillian L. Deitzer,
Departmental Paperwork Reduction Act Officer, Office of the Chief Information Officer.

[FR Doc. E9-853 Filed 1-15-09; 8:45 am]

BILLING CODE 4210-67-P